DEPARTMENT OF TRANSPORTATION

Federal Aviation Administration

14 CFR Part 71

[Docket No. FAA-15311; Airspace Docket No. 03-ASO-6]

Amendment of Class D, E4, E5 Airspace; Elizabeth City, NC

Correction

In rule document 03-15143 beginning on page 35534 in the issue of Monday, June 16, 2003, make the following corrections:

71.1 [Corrected]

1. On page 35535, in 71.1, in the first column, under the heading ASO NC E4 Elizabeth City, NC [Revised], in the first line, “Elizabaeth” should read, “Elizabeth”.

2. On the same page, in the same section, in the same column, under the same heading, in the sixth line, “long. 76°15′52″” should read, “long. 76°17′52″”.

3. On the same page, in the same section, in the second column, the heading “ASO NC ET Elizabaeth City, NC [Revised]” should read, “ASO NC E5 Elizabeth City, NC [Revised]”.

[FR Doc. C3-15143 Filed 6-23-03; 8:45 am]

BILLING CODE 1505-01-D

DEPARTMENT OF THE TREASURY

Internal Revenue Service

[REG-103805-99]

Proposed Collection; Comment Request for Regulation Project

Correction

In notice document 03-15284 beginning on page 36632 in the issue of Wednesday, June 18, 2003, make the following correction:

On page 36632, in the third column, in the DATES section, in the second line, “August 6, 2003,” should read, “August 18, 2003.”

[FR Doc. C3-15284 Filed 6-23-03; 8:45 am]

BILLING CODE 1505-01-D